DEPARTMENT OF TRANSPORTATION

Federal Highway Administration

Notice of Final Federal Agency Actions on Proposed Highway in California

AGENCY: Federal Highway Administration (FHWA), DOT.

ACTION: Notice of Statute of Limitation on Claims.

SUMMARY: The FHWA, on behalf of Caltrans, is issuing this notice to announce actions taken by Caltrans, USACOE, and USFWS, that are final within the meaning of 23 U.S.C. 139(l) (1). The actions relate to a proposed highway project, State Route 79 (SR 79) between Thompson Road and Domenigoni Parkway (post mile [PM] R8.4 to PM R15.8). The project is located north of the City of Murrieta, in unincorporated southwestern Riverside County, State of California. Those actions grant licenses, permits, and approvals for the project.

DATES: By this notice, the FHWA, on behalf of Caltrans, is advising the public of final agency actions subject to 23 U.S.C. 139(l) (1). A claim seeking judicial review of the Federal agency actions on the highway project will be barred unless the claim is filed on or before September 20, 2011. If the Federal law that authorizes judicial review of a claim provides a time period of less than 180 days for filing such claim, then that shorter time period still applies.

FOR FURTHER INFORMATION CONTACT: For Caltrans: James Shankel, Senior Environmental Planner, Environmental Studies “C” Branch Chief, California Department of Transportation, District 8, Division of Environmental Planning, 464 West 4th Street, 6th Floor MS-827, San Bernardino, California 92401-1400, available 8 a.m.-5 p.m. Monday through Friday, phone number (909) 383-6379 or e-mail: james_shankel@dot.ca.gov. For USACOE: Veronica Chan, Project Manager, Regulatory Division, 915 Wilshire Blvd., Los Angeles, CA 90017-3401, phone number (213) 452-3410. For USFWS: Felicia Sirchia, 6010 Hidden Valley Road, Ste. 101, Carlsbad, CA 92011, phone number (760) 431-9440.

SUPPLEMENTARY INFORMATION: Effective July 1, 2007, the Federal Highway Administration (FHWA) assigned, and the California Department of Transportation (Caltrans) assumed environmental responsibilities for this project pursuant to 23 U.S.C. 327. Notice is hereby given that Caltrans, USACOE, and USFWS have taken final agency actions subject to 23 U.S.C. 139(l) (1) by issuing licenses, permits, and approvals for the following highway project in the State of California: Widen SR 79 from Thompson Road to Domenigoni Parkway. The general purpose of the project is to facilitate improved operations by increasing capacity, reducing congestion and enhancing safety. The actions by the Federal agencies, and the laws under which such actions were taken, are described in the Final Environmental Assessment (FEA) for the project, approved via issuance of a Finding of No Significant Impact (FONSI) on December 28, 2010, and in other documents in the FHWA project records. The FEA, FONSI, and other project records are available by contacting Caltrans at the addresses provided above. This notice applies to all Federal agency decisions as of the issuance date of this notice and all laws under which such actions were taken, including but not limited to:

1. General: National Environmental Policy Act (NEPA) [42 U.S.C. 4321-4351]; Federal Aid-Highway Act of 1970 [23 U.S.C. 109].

2. Air: Clean Air Act, as amended [42 U.S.C. 7401-7671(q)].

3. Wildlife: Endangered Species Act [16 U.S.C. 1531-1544], Fish and Wildlife Coordination Act [16 U.S.C. 661-667 (d)], Migratory Bird Treaty Act [16 U.S.C. 703-712].

4. Historic and Cultural Resources: Section 106 of the National Historic Preservation Act of 1966, as amended [16 U.S.C. 470]; Antiquities Act of 1906 [16 U.S.C. 431-433].

5. Social and Economic: Civil Rights Act of 1964 [42 U.S.C. 2000(d)-2000(d) (1)]; the Uniform Relocation Assistance and Real Property Acquisition Policies Act of 1970, as amended [42 U.S.C. 61].

6. Wetlands and Water Resources: Clean Water Act, [33 U.S.C. 1251-1377].

7. Hazardous Materials: Comprehensive Environmental Response, Compensation, and Liability Act [42 U.S.C. 9601-9675]; Resource Conservation and Recovery Act [42 U.S.C. 6901-6992(j)].

8. Executive Orders: E.O. 11990 Protection of Wetlands; E.O. 11988 Floodplain Management; E.O. 12898, Federal Actions to Address Environmental Justice in Minority Populations and Low Income Populations; 13112 Invasive Species; E.O. 13007 Indian Sacred Sites; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l) (1).

Issued on: March 16, 2011.
Maiser Khaled,
Acting Director, State Programs, Federal Highway Administration, Sacramento, California.

[FR Doc. 2011-6745 Filed 3-23-11; 8:45 am]

BILLING CODE 4910-RY-P